DEPARTMENT OF ENERGY

Federal Energy Regulatory Commission

[Project No. 12132-001]

Lake Altoona Water Power Company, Inc.; Notice of Surrender of Preliminary Permit

February 3, 2005.

Take notice that Lake Altoona Water Power Company, Inc., permittee for the proposed Lake Altoona Dam Project, has requested that its preliminary permit be terminated. The permit was issued on June 5, 2002, and would have expired on May 31, 2005.¹ The project would have been located at the existing county-owned dam on the Eau Claire River in Eau Claire County, Wisconsin.

¹ 99 FERC ¶ 62,161.

The permittee filed the request on January 25, 2005, and the preliminary permit for Project No. 12132 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E5-547 Filed 2-9-05; 8:45 am]

BILLING CODE 6717-01-P